DEPARTMENT OF THE INTERIOR

National Park Service

[2253-665]

Notice of Intent to Repatriate Cultural Items: California Department of Parks and Recreation, Sacramento, CA

AGENCY: National Park Service, Interior.

ACTION: Notice.

SUMMARY: The California Department of Parks and Recreation, in consultation with the appropriate tribes, has determined that the cultural items meet the definition of unassociated funerary objects and repatriation to the Indian tribes stated below may occur if no additional claimants come forward. Representatives of any Indian tribe that believes itself to be culturally affiliated with the cultural item may contact the California Department of Parks and Recreation.

DATES: Representatives of any Indian tribe that believes it has a cultural affiliation with the cultural item should contact the California Department of Parks and Recreation at the address below by May 2, 2012.

ADDRESSES: Rebecca Carruthers, NAGPRA Coordinator, California Department of Parks and Recreation, 1416 9th Street, Room 902, Sacramento, CA 95814, telephone (916) 653-8893.

SUPPLEMENTARY INFORMATION: Notice is here given in accordance with the Native American Graves Protection and Repatriation Act (NAGPRA), 25 U.S.C. 3005, of the intent to repatriate cultural items under the control of the California Department of Parks and Recreation that meet the definition of unassociated funerary objects under 25 U.S.C. 3001. The unassociated funerary objects were removed from eight sites located in San Diego County, CA.

This notice is published as part of the National Park Service's administrative responsibilities under NAGPRA, 25 U.S.C. 3003(d)(3). The determinations in this notice are the sole responsibility of the museum, institution or Federal agency that has control of the Native American cultural item. The National Park Service is not responsible for the determinations in this notice.

History and Description of the Cultural Items

The unassociated funerary objects were removed from eight sites located in San Diego County, CA. The geographical location of these eight sites indicates the unassociated funerary objects were recovered within the historically documented territory of the Kumeyaay. The traditional territory of the Kumeyaay includes a significant portion of present-day San Diego County up to the Aqua Hedionda area and inland along the San Felipe Creek (just south of Borrego Springs). Bound to the east by the Sand Hills in Imperial County and includes the southern end of the Salton Basin and all of the Chocolate Mountains, the territory extends southward to Todos Santos Bay, Laguna Salada and along the New River in northern Baja California. The central and southern portions of Anza Borrego Desert State Park lie within the traditional territory of the Kumeyaay.

In 1949, archeologist Malcolm Rogers excavated site CA-SDI-913 (Arrowmaker's Ridge) within Cuyamaca Rancho State Park, and human remains from this site were in the possession of the San Diego Museum of Man. One artifact from site CA-SDI-913, a ceramic bow pipe, is in the possession of California State Parks. The ceramic bow pipe is an unassociated funerary object based on the proximity of human burials in the area, the ceremonial nature of the object, and the common use of similar objects in burial contexts.

In 1960, archeologist Malcolm Rogers collected a ceramic pipe bowl fragment from site CA-SDI-948 (Indian Gorge) in the Anza Borrego Desert State Park, a site consisting of a rock shelter and associated village complex known to contain cremated human remains. The pipe bowl fragment is an unassociated funerary object based on the proximity of human cremation burials in the area, the ceremonial/personal nature of the object, and the burned exterior which is consistent with exposure to heat during cremation.

In 1976, archeologists with the Archaeological Survey Association (A.S.A) collected a buffware pipe handle fragment and cremated human remains from site CA-SDI-4009 in the McCain Valley Recreation Area. The human remains have been repatriated, but the pipe handle fragment remains in the possession of California State Parks. The pipe handle fragment is an unassociated funerary object based on the proximity of human burials in the area, the ceremonial nature of the object, and the common use of similar objects in burial contexts.

At an unknown date, Lloyd Findley collected 33 burnt Olivella shell beads, two burnt bone beads, and a ceramic pipe stem fragment from an unknown site in the Mason Valley area of Anza Borrego Desert State Park. The objects are unassociated funerary objects based upon the proximity of extensive and concentrated village sites with cremation burials in the area, the ceremonial/personal nature of the objects, and the burned exterior which is consistent with exposure to heat during cremation.

At an unknown date prior to 1979, an unidentified individual collected a burnt ceramic pipe bowl fragment from an unidentified site in Cuyamaca Rancho State Park, and the object was donated to the California Department of Parks and Recreation by Harry D. Ross in 1979. The ceramic pipe bowl fragment is an unassociated funerary object based on the proximity of extensive and concentrated village sites with cremation burials in the area, the ceremonial/personal nature of the object, and the burned exterior which is consistent with exposure to heat during cremation.

At an unknown date, John Wright and Virginia Carlsberg collected 17 burnt Olivella shell beads and two melted glass beads from an unknown site located near Fish Creek and Split Mountain in Anza Borrego Desert State Park. The objects are unassociated funerary objects based on the proximity of extensive and concentrated village sites with cremation burials in the area, the ceremonial/personal nature of the objects, and the burned exterior which is consistent with exposure to heat during cremation.

At an unknown date, an unidentified person collected a Cerithiopsis shell altered with a hole punched near its outer lip and one lot of burned and unburned shell fragments from an unknown site near East Mesa within Cuyamaca Rancho State Park. The catalog records associate these objects with cremated human remains though the human remains do not appear to be in the possession of California State Parks. The objects are unassociated funerary objects based upon the catalog record, the proximity of extensive and concentrated village sites with cremation burials in the area, the ceremonial/personal nature of the objects, and the burned exterior which is consistent with exposure to heat during cremation.

At an unknown date, an unidentified person collected two burnt Olivella shell beads and 47 melted glass beads from an unknown site within Cuyamaca Rancho State Park. The objects are unassociated funerary objects based on the proximity of extensive and concentrated village sites with cremation burials in the area, the ceremonial/personal nature of the objects, and the burned exterior which is consistent with exposure to heat during cremation.

Determinations Made by the California Department of Parks and Recreation

Officials of the California Department of Parks and Recreation have determined that:

• Pursuant to 25 U.S.C. 3001(3)(B), the 110 cultural items described above are reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the unassociated funerary objects and the Campo Band of Diegueno Mission Indians of the Campo Indian Reservation, California; Capitan Grande Band of Diegueno Mission Indians of California: Barona Group of Capitan Grande Band of Mission Indians of the Barona Reservation, California, and Viejas (Baron Long) Group of Capitan Grande Band of Mission Indians of the Viejas Reservation, California; Ewiiaapaayp Band of Kumeyaay Indians, California; Iipay Nation of Santa Ysabel, California (formerly the Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation (hereafter referred to as “The Tribes”).

Additional Requestors and Disposition

Representatives of any Indian tribe that believes itself to be culturally affiliated with the unassociated funerary object should contact Rebecca Carruthers, NAGPRA Coordinator, California Department of Parks and Recreation, 1416 9th Street, Room 902, Sacramento CA 95814, telephone (916) 653-8893, before May 2, 2012. Repatriation of the unassociated funerary objects to The Tribes may proceed after that date if no additional claimants come forward.

The California Department of Parks and Recreation is responsible for notifying The Tribes that this notice has been published.

Dated: March 28, 2012.
Sherry Hutt,
Manager, National NAGPRA Program.

[FR Doc. 2012-7872 Filed 3-30-12; 8:45 am]

BILLING CODE 4312-50-P